DEPARTMENT OF COMMERCE

International Trade Administration

[A-351-825]

Stainless Steel Bar From Brazil: Final Results of Antidumping Duty Administrative Review; 2017

AGENCY: Enforcement and Compliance, International Trade Administration, Department of Commerce.

SUMMARY: The Department of Commerce (Commerce) finds that stainless steel bar (SSB) from Brazil has been sold at less than normal value during the period of review (POR) February 1, 2017, through August 8, 2017.

DATES: Applicable April 12, 2019.

FOR FURTHER INFORMATION CONTACT: Hermes Pinilla, Office I, Enforcement and Compliance, International Trade Administration, U.S. Department of Commerce, 1401 Constitution Avenue NW, Washington, DC 20230; telephone: (202) 482-3477.

SUPPLEMENTARY INFORMATION:

Background

On October 31, 2018, Commerce published the Preliminary Results of the administrative review of the antidumping duty order on SSB from Brazil.¹ The administrative review covers one producer or exporter of the subject merchandise, Villares Metals S.A. (Villares). We gave interested parties an opportunity to comment on the Preliminary Results, and we received a case brief from Villares.² We did not receive a rebuttal brief. Commerce exercised its discretion to toll all deadlines affected by the partial federal government closure from December 22, 2018, through the resumption of operations on January 29, 2019.³ If the new deadline falls on a non-business day, in accordance with Commerce's practice, the deadline will become the next business day. Accordingly, the revised deadline for the final results of this review is now April 9, 2019.

¹ See Stainless Steel Bar from Brazil: Preliminary Results of Antidumping Duty Administrative Review; 2017-2018, 83 FR 54715 (October 31, 2018) (Preliminary Results).

² See Villares' case brief, “Stainless Steel Bar from Brazil: Case Brief of Villares Metals SA,” dated November 30, 2018.

³ See Memorandum, “Deadlines Affected by the Partial Shutdown of the Federal Government,” dated January 28, 2019. All deadlines in this segment of the proceeding have been extended by 40 days.

Commerce conducted this review in accordance with section 751(a)(1)(B) and (2) of the Tariff Act of 1930, as amended (the Act).

Scope of the Order

The merchandise subject to the order is SSB. The SSB subject to the order is currently classifiable under subheadings 7222.10.00, 7222.11.00, 7222.19.00, 7222.20.00, 7222.30.00 of the Harmonized Tariff Schedule of the United States (HTSUS). Although the HTSUS subheadings are provided for convenience and customs purposes, the written description of the scope of the order is dispositive. A full description of the scope of the order is contained tin the Issues and Decision Memorandum.⁴

⁴ See Memorandum, “Stainless Steel Bar from Brazil: Issues and Decision Memorandum for the Final Results of Antidumping Duty Administrative Review,” dated concurrently with, and hereby adopted by, this notice.

Analysis of Comments Received

The issue raised by Villares in its case brief has been addressed in the Issues and Decision Memorandum. The Issues and Decision Memorandum is a public document and is made available to the public via Enforcement and Compliance's Antidumping and Countervailing Duty Centralized Electronic Service System (ACCESS). ACCESS is available to registered users at http://access.trade.gov and is available to all parties in the Central Records Unit, Room B8024 of the main Department of Commerce building. In addition, a complete version of the Issues and Decision Memorandum can be accessed directly on the Enforcement and Compliance website at http://enforcement.trade.gov/frn/. A list of the topics discussed in the Issues and Decision Memorandum is attached as an Appendix to this notice.

Changes Since the Preliminary Results

We did not make any changes for these final results.

Final Results of the Administrative Review

We determine that the following weighted-average dumping margin exists for Villares for the period of February 1, 2017, through August 8, 2017.

Producer or exporter | Weighted- average dumping margin (percent)
Villares Metals S.A | 1.67

Assessment

In accordance with section 751(a)(2)(C) of the Act, 19 CFR 351.212(b)(1), and the Final Modification,⁵ Commerce intends to instruct U.S. Customs and Border Protection (CBP) to assess antidumping duties and liquidate all appropriate entries for Villares covered by this review. For Villares, we calculated importer-specific assessment rates on the basis of the ratio of the total amount of dumping duties calculated for each importer's examined sales and the total entered value of the sales in accordance with 19 CFR 351.212(b)(1).⁶

⁵ See Antidumping Proceedings: Calculation of the Weighted-Average Dumping Margin and Assessment Rate in Certain Antidumping Duty Proceedings; Final Modification, 77 FR 8101, 8102 (February 14, 2012) (Final Modification).

⁶ Id.

For entries of subject merchandise during the POR produced by Villares for which it did not know its merchandise was destined for the United States, we will instruct CBP to liquidate unreviewed entries at the all-others rate if there is no rate for the intermediate company involved in the transaction. We intend to issue instructions to CBP 15 days after publication of the final results of this review.

Cash Deposit Requirements

In the Revocation Notice, Commerce stated that it intends to issue instructions to CBP to terminate the suspension of liquidation and to discontinue the collection of cash deposits on entries of subject merchandise, entered or withdrawn from warehouse, on or after August 9, 2017.⁷ Furthermore, because the antidumping duty order on SSB from Brazil has been revoked as a result of the Revocation Notice, Commerce does not intend to issue cash deposit instructions at the conclusion of this administrative review.

⁷ See Stainless Steel Bar from Brazil, India, Japan, and Spain: Continuation of Antidumping Duty Order (India) and Revocation of Antidumping Duty Orders (Brazil, Japan, and Spain), 83 FR 49910 (October 3, 2018) (Revocation Notice).

Notification to Importers

This notice serves as a final reminder to importers of their responsibility under 19 CFR 351.402(f)(2) to file a certificate regarding the reimbursement of antidumping duties prior to liquidation of the relevant entries during this POR. Failure to comply with this requirement could result in the Secretary's presumption that reimbursement of antidumping duties occurred and the subsequent assessment of double antidumping duties.

Notification Regarding Administrative Protective Orders

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation subject to sanction.

Notification to Interested Parties

We are issuing and publishing these results of an administrative review in accordance with sections 751(a)(1) and 777(i) of the Act and 19 CFR 351.221(b)(5).

Dated: April 9, 2019.
Gary Taverman,
Deputy Assistant Secretary for Antidumping and Countervailing Duty Operations, performing the non-exclusive functions and duties of the Assistant Secretary for Enforcement and Compliance.

Appendix—List of Topics Discussed in the Issues and Decision Memorandum

I. Summary

II. Background

III. Scope of the Order

IV. Discussion of the Issue

Whether to adjust the Comparison Time Periods for purposes of applying the Cohen's D-Test

V. Recommendation

[FR Doc. 2019-07296 Filed 4-11-19; 8:45 am]

BILLING CODE 3510-DS-P